INTERNATIONAL TRADE COMMISSION

[Investigation No. 337-TA-987]

Certain Hospital Beds, and Components Thereof; Commission's Determination Not To Review an Initial Determination Terminating the Investigation Based on Settlement; Termination of the Investigation

AGENCY: U.S. International Trade Commission.

ACTION: Notice.

SUMMARY: Notice is hereby given that the U.S. International Trade Commission has determined not to review the presiding administrative law judge's (“ALJ”) initial determination (“ID”) (Order No. 10) terminating the investigation on the basis of settlement. The Commission has terminated the investigation.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on March 4, 2016, based on a complaint and supplements filed on behalf of Stryker Corporation (“complainant”) of Kalamazoo, Michigan. 81 FR 11590 (March 4, 2016). The complaint as supplemented alleges violations of Section 337 of the Tariff Act of 1930, as amended, 19 U.S.C. 1337, in the sale for importation, importation, or sale within the United States after importation of certain hospital beds, and components thereof by reason of infringement of certain claims of U.S. Patent No. 7,082,630; U.S. Patent No. 7,690,059 (“the '059 patent”); U.S. Patent No. 7,784,125; and U.S. Patent No. 8,701,229 (“the '229 patent”). The complaint further alleges that an industry in the United States exists as required by subsection (a)(2) of section 337. The complaint names Umano Medical Inc. of Quebec, Canada and Umano Medical World Inc. of Quebec, Canada as respondents. The Office of Unfair Import Investigations is not a party in the investigation.

On September 2, 2016, the parties filed a joint motion to terminate the investigation based on settlement. The parties provided confidential and non-confidential versions of the settlement agreement and represented that there are no other agreements, written or oral, express or implied, between the Settling Parties concerning the subject matter of this Investigation.

On September 13, 2016, the ALJ granted the joint motion. Order No. 10. The ALJ found that all of the requirements of Commission Rule 210.21(a)-(b), 19 CFR 210.21(a)-(b), had been met and that there were no public interest concerns that would weigh against termination. No petitions for review were filed.

The Commission has determined not to review the subject ID.

The authority for the Commission's determination is contained in section 337 of the Tariff Act of 1930, as amended (19 U.S.C. 1337), and in Part 210 of the Commission's Rules of Practice and Procedure (19 CFR part 210).

By order of the Commission.
Issued: October 12, 2016.
Lisa R. Barton,
Secretary to the Commission.

[FR Doc. 2016-25094 Filed 10-17-16; 8:45 am]

BILLING CODE 7020-02-P